DEPARTMENT OF COMMERCE

International Trade Administration

[C-122-851]

Live Swine From Canada: Postponement of Preliminary Countervailing Duty Determination

AGENCY: Import Administration, International Trade Administration, Department of Commerce.

SUMMARY: The Department of Commerce is postponing the preliminary determination in the countervailing duty investigation of live swine from Canada from June 11, 2004 until no later than August 16, 2004. This extension is made pursuant to section 703(c)(1)(B) of the Tariff Act of 1930, as amended.

EFFECTIVE DATE: May 21, 2004.

FOR FURTHER INFORMATION CONTACT: Melani Miller or S. Anthony Grasso, at (202) 482-0116 or (202) 482-3853, respectively, Import Administration, U.S. Department of Commerce, 14th Street and Constitution Avenue, NW., Washington, DC 20230.

SUPPLEMENTARY INFORMATION:

Postponement of Due Date for Preliminary Determination

On April 7, 2004, the Department of Commerce (“the Department”) initiated the countervailing duty investigation of live swine from Canada. See Notice of Initiation of Countervailing Duty Investigation: Live Swine From Canada, 69 FR 19818 (April 14, 2004). Currently, the preliminary determination is due no later than June 11, 2004. However, pursuant to section 703(c)(1)(B) of the Tariff Act of 1930, as amended (“the Act”), we have determined that this investigation is “extraordinarily complicated” and are therefore extending the due date for the preliminary determination by 65 days to no later than August 16, 2004.

Under section 703(c)(1)(B) of the Act, the Department can extend the period for reaching a preliminary determination until not later than the 130th day after the date on which the administering authority initiates an investigation if

(B) the administering authority concludes that the parties concerned are cooperating and determines that

(i) the case is extraordinarily complicated by reason of

(I) the number and complexity of the alleged countervailable subsidy practices;

(II) the novelty of the issues presented;

(III) the need to determine the extent to which particular countervailable subsidies are used by individual manufacturers, producers, and exporters; or

(IV) the number of firms whose activities must be investigated; and

(ii) additional time is necessary to make the preliminary determination.

We find that in this investigation all concerned parties are cooperating. Nevertheless, we have determined that an extension of the deadline for the preliminary determination is necessary due to the extraordinarily complicated nature of the case. The programs in this investigation raise a number of potentially complex issues, e.g., the Government of Canada has filed several “green box” claims. Finally, because of the delay in issuing the questionnaires due to the complex issues surrounding respondent selection, the Department will not have sufficient time to review and analyze the questionnaire responses once they are received and to issue supplemental questionnaires if necessary without an extension of the original time limit.

Accordingly, we deem this investigation to be extraordinarily complicated, and we determine that additional time is necessary to make the preliminary determination. Therefore, pursuant to section 703(c)(1)(B) of the Act, we are postponing the preliminary determination in this investigation to not later than August 16, 2004.

This notice is published pursuant to section 703(c)(2) of the Act.

Dated: May 14, 2004.
Jeffrey May,
Acting Assistant Secretary for Import Administration.

[FR Doc. 04-11574 Filed 5-20-04; 8:45 am]

BILLING CODE 3510-DS-P